DEPARTMENT OF THE INTERIOR

National Park Service

[NPS-WASO-NAGPRA-NPS0025151; PPWOCRADN0-PCU00RP14.R50000]

Notice of Inventory Completion: Tennessee Valley Authority, Knoxville, TN; Correction

AGENCY: National Park Service, Interior.

ACTION: Notice; correction.

SUMMARY: The Tennessee Valley Authority (TVA) has corrected a Notice of Inventory Completion published in the Federal Register on February 23, 2018. This notice adds a paragraph that was inadvertently left out.

ADDRESSES: Dr. Thomas O. Maher, TVA, 400 West Summit Hill Drive, WT11D, Knoxville, TN 37902-1401, telephone (865) 632-7458, email tomaher@tva.gov.

SUPPLEMENTARY INFORMATION: This notice is published as part of the National Park Service's administrative responsibilities under NAGPRA, 25 U.S.C. 3003(d)(3). The determinations in this notice are the sole responsibility of the museum, institution, or Federal agency that has control of the Native American human remains. The National Park Service is not responsible for the determinations in this notice.

This notice corrects a Notice of Inventory Completion published in the Federal Register (83 FR 8101-8102, February 23, 2018). The paragraph summarizing the determinations made by TVA was inadvertently left out of the original notice.

Correction

In the Federal Register (83 FR 8101, February 23, 2018), column 3, under the heading “Determinations Made by the Tennessee Valley Authority,” the following paragraph is inserted after paragraph 7:

• Pursuant to 43 CFR 10.11(c)(1), the disposition of the human remains may be to the Cherokee Nation, Eastern Band of Cherokee Indians, The Chickasaw Nation, and United Keetoowah Band of Cherokee Indians in Oklahoma.

The Tennessee Valley Authority is responsible for notifying the Cherokee Nation, Eastern Band of Cherokee Indians, The Chickasaw Nation, and United Keetoowah Band of Cherokee Indians in Oklahoma that this notice has been published.

Dated: February 28, 2018.
Melanie O'Brien,
Manager, National NAGPRA Program.

[FR Doc. 2018-05854 Filed 3-21-18; 8:45 am]

BILLING CODE 4312-52-P